DEPARTMENT OF AGRICULTURE

Forest Service

Analysis of Beaver Park Project Area, Black Hills National Forest, South Dakota

AGENCY: Forest Service, USDA.

ACTION: Cancellation of notice of intent.

SUMMARY: This notice cancels the Notice of Intent to analyze the Beaver Park Project Area on the Black Hills National Forest, published in the Federal Register on November 9, 1999 (64 Fed. Reg. 61063-61064), pursuant to Title 40 Code of Federal Regulations section 1501.7. The project was cancelled as a result of the settlement of Civil Action No. 99-N-2173, Biodiversity Associates vs. Lyle Laverty et al., United States District Court for the District of Colorado.

ADDRESSES: Northern Hills Ranger District, Black Hills National Forest, 2014 N. Main St., Spearfish, SD 57783.

FOR FURTHER INFORMATION CONTACT: John Natvig, Project Interdisciplinary Team Leader, at (605) 642-4622.

SUPPLEMENTARY INFORMATION: On March 1, 1999, a Record of Decision was signed implementing the selected alternative in the Veteran Boulder Environmental Impact Statement in the Beaver Park Roadless Area. A separate project was proposed later the same year to address a growing mountain pine beetle epidemic in the Beaver Park area. A Notice of Intent to analyze the effects of the proposed actions was published in the Federal Register on November 9, 1999.

On November 10, 1999, Biodiversity Associates filed a lawsuit against Lyle Laverty et al. regarding the March 1, 1999 Record of Decision on the Veteran/Boulder project. An agreement to settle this lawsuit was reached on September 6, 2000. As part of the settlement, the Forest Service agreed not to approve any decision to “log, or construct or reconstruct vehicle routes, or construct or reconstruct skid trails, or otherwise undertake any activity involving the disturbance of soil or the cutting or damaging of trees, nor will it undertake sale “prep” work (e.g., tree marking), within the Beaver Park Roadless Area until after a decision by the Regional Forester to adopt the Phase II Forest Plan amendment” (Biodiversity Associates v. Laverty, p. 2).

This language effectively prevents the actions proposed under the Beaver Park Project from occurring until such time as an amendment to the Black Hills National Forest Land and Resource Management Plan is prepared and signed, as described in the settlement agreement. Therefore, the Notice of Intent for the Beaver Park Project is being withdrawn.

Dated: February 28, 2001.
John C. Twiss,
Forest Supervisor.

[FR Doc. 01-7897 Filed 3-29-01; 8:45 am]

BILLING CODE 3410-11-M